DEPARTMENT OF HOUSING AND URBAN DEVELOPMENT

[Docket No. FR-5487-N-12]

Notice of Proposed Information Collection for Public Comment; Indian Community Development Block Grant Information Collection

AGENCY: Office of the Assistant Secretary for Public and Indian Housing, HUD.

ACTION: Notice.

SUMMARY: The proposed information collection requirement described below will be submitted to the Office of Management and Budget (OMB) for review as required by the Paperwork Reduction Act. The Department is soliciting public comments on the subject proposal.

DATES: Comments due date: June 27, 2011.

ADDRESSES: Interested persons are invited to submit comments regarding this proposal. Comments should refer to the proposal by name/or OMB Control number and should be sent to: Colette Pollard, Departmental Reports Management Officer, QDAM, Department of Housing and Urban Development, 451 7th Street, SW., Room 4160, Washington, DC 20410-5000; telephone (202) 402-3400 (this is not a toll-free number) or by e-mail to Colette.Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street, SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to (1) evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Indian Community Development Block Grant Information Collection.

OMB Control Number: 2577-0191.

Description of the need for the information and proposed use: Title I of the Housing and Community Development Act of 1974, which authorizes Community Development Block Grants, requires that grants for Indian Tribes be awarded on a competitive basis. The purpose of the Indian Community Development Block Grant (ICDBG) program is to develop viable Indian and Alaska Native communities by creating decent housing, suitable living environments and economic opportunities primarily for low- and moderate-income persons. Consistent with this objective, not less than 70 percent of the expenditures are to benefit low and moderate-income persons. The law specifies four criteria or options that are considered to meet this objective. The four options or criteria are: Area benefit; limited clientele; housing; job creation/retention. Eligible applicants include Federally recognized Tribes, which include Alaska Native communities, and Bureau of Indian Affairs or Indian Health Service determined Tribally authorized Tribal organizations.

The ICDBG program regulations can be found at 24 CFR 1003. The ICDBG program for Indian Tribes and Alaska Native villages requires eligible applicants to submit information to enable HUD to select the best projects for funding during annual competitions. Additionally, the requirements are essential for HUD in monitoring grants to ensure that grantees are making proper use of Federal dollars.

ICDBG applicants must submit a complete application package which includes an Application for Federal Assistance (SF-424), Supplement Survey on Ensuring Equal Opportunity for Applicants (SF-424 SUPP), Applicant/Recipient Disclosure/Update Report (HUD-2880), Implementation Schedule (HUD-4125), Cost Summary (HUD-4123) and a Program Outcome Logic Model (HUD-96010). If the applicant has a waiver of the electronic submission requirement and is submitting a paper application, an Acknowledgement of Application Receipt (HUD-2993) must also be submitted. If the applicant is a Tribal organization, a resolution from the Tribe stating that the Tribal organization is submitting an application on behalf of the Tribe must also be included in the application package.

Section 105 of the 1974 Housing and Community Development Act (42 U.S.C. 5305) was amended by section 588 of the Quality Housing and Work Responsibility Act of 1998 creating a new subsection (h) entitled, “Prohibition on Use of Assistance for Employment Relocation Activities.” This subsection prohibits the use of Community Development Block Grant funds to facilitate the relocation of for-profit businesses from one labor market to another if the relocation is likely to result in significant job loss. HUD's regulations for the ICDBG program were amended to add § 1003.209, Prohibition on use of assistance from employment relocation activities, and revise § 1003.505, Records to be maintained, to include the statement, “This includes establishing and maintaining records demonstrating that the recipient has made the determinations required as a condition of eligibility of certain activities, including as prescribed in § 1003.209.”

The ICDBG regulations at § 1003.209 prohibit certain job relocation activities that results in disinvestment in low and moderate income Tribal communities. ICDBG recipients are prohibited from using ICDBG funds to facilitate the relocation of for-profit businesses from one “identified service area” as defined in § 1003.4, to another if the relocation is likely to result in significant job loss. To show compliance with the statute and regulations, ICDBG recipients that provide ICDBG assistance to a business must require and obtain, as a condition of the assistance, a certification from the assisted business that it has no plans to relocate jobs. If the assistance results in business relocation, the agreement must provide that the business will reimburse the ICDBG recipient for any assistance provided to, or expended on behalf of the business.

ICDBG recipients are required to submit a quarterly Federal Financial Report (SF-425) that provides a snapshot of the grant funds drawn from the recipient's line of credit. The reports are used to monitor cash transfers to the recipients and obtain expenditure data from the recipients. (Title 24 CFR 1003.501(16))

The government-wide administrative requirements for grants and cooperative agreements to State, local, and Federally recognized Indian Tribal governments codified by HUD at 24 CFR part 85 require that grantees and sub-grantees “take all necessary affirmative steps to assure that minority firms, women's business enterprises, and labor surplus area firms are used when possible” (§ 85.36(e)). Consistent with these regulations, § 1003.506(b) requires that ICDBG grantees report on these activities on an annual basis, with Contract and Subcontract Activity reports being due to HUD on October 10 of each year (HUD-2516).

At the end of each one-year period and at grant closeout the recipient is required to submit a narrative status and evaluation report that describes: (1) Progress on completing approved activities; (2) a breakdown of major project activity or category expenditures; and (3) an assessment of program effectiveness at grant closeout. Recipients are also to report on program outputs and outcomes through the Program Outcome Logic Model (HUD-96010). (Title 24 CFR 1003.506)

The information collected will allow HUD to accurately audit the program.

Agency form number: SF-424, HUD-2880, HUD-2993, SF-424-SUPP, HUD-96010, HUD-2994-A, HUD-4123, HUD-4125, SF-425, HUD-2516, narrative status and evaluation report.

Members of affected public: Native American Tribes, Alaska Native communities and corporations, and Tribal organizations.

Estimation of the total number of hours needed to prepare the information collection including number of respondents: The Estimated number of respondents is 225 annually with one response per respondent. The average number for each response is 40 hours, for a total reporting burden of 10,095 hours.

Status of the proposed information collection: Revision of currently approved collection.

Authority: Section 3506 of the Paperwork Reduction Act of 1995, 44 U.S.C. Chapter 35, as amended.

Dated: April 19, 2011.
Deborah Hernandez,
General Deputy Assistant Secretary for Public and Indian Housing.

[FR Doc. 2011-10044 Filed 4-25-11; 8:45 am]

BILLING CODE 4210-67-P